ENVIRONMENTAL PROTECTION AGENCY

[AD-FRL-7253-9]

Agency Information Collection Activities: Submission for OMB Review; Comment Request

AGENCY: Environmental Protection Agency (EPA).

ACTION: Notice.

SUMMARY: In compliance with the Paperwork Reduction Act (44 U.S.C. 3501, et seq.), this document announces that EPA has forwarded the following continuing Information Collection Request (ICR) to the Office of Management and Budget (OMB) for review and approval: Regional Haze Regulations, ICR number 1813.02., and OMB Control Number 2060-0421, expiration date: September 30, 2002. The ICR describes the nature of the information collection and its expected burden and cost.

DATES: Comments must be submitted on or before August 30, 2002.

ADDRESSES: Send comments, referencing EPA ICR No. 1813.02, and OMB Control No. 2060-0421, to the following addresses: Sandy Farmer, U.S. Environmental Protection Agency, Collection Strategies Division (Mail Code 2822), 1200 Pennsylvania Avenue, NW, Washington, DC 20460-0001; and to the Office of Information and Regulatory Affairs, Office of Management and Budget, Attention: Desk Officer for EPA, 725 17th Street, NW, Washington, DC 20503.

FOR FURTHER INFORMATION CONTACT: For a copy of the ICR, contact Sandy Farmer at EPA by phone at (202) 260-2740, by e-mail at farmer.sandy@epa.gov, or download off the Internet at http://www.epa.gov/icr and refer to EPA ICR No. 1813.02. For technical questions about the ICR, contact Thomas Driscoll by phone at (919) 541-5135, by e-mail at driscoll.tom@epa.gov, or by mail at Integrated Policy and Standards Group (C504-02), U.S. Environmental Protection Agency, Research Triangle Park, NC 27711.

SUPPLEMENTARY INFORMATION: Title: Regional Haze Regulations, ICR number 1813.02., and OMB Control Number 2060-0421, expiration date: September 30, 2002. This is a request for reinstatement, with change, of a previously approved collection for which approval is expiring.

Abstract: Section 169A of the Clean Air Act (CAA) establishes a national goal for protecting visibility in 156 scenic areas. These 156 “Class I” areas are federally protected areas. The national visibility goal is to remedy existing impairment in these Class I areas, consistent with the requirements of section 169A and 169B of the CAA. Entities that are affected by these rulemakings (subject to best available retrofit technology (BART) Guidelines) would be those facilities built between 1962 and 1977, are major sources (emit greater than 250 tons per year) of any of the visibility impairing pollutants, and are one of 26 source categories which include electricity generating utilities, facilities with industrial boilers, and petrochemical facilities. The regional haze rule sets forth requirements for State Implementation Plans (SIPs) under this program. The rule requires SIPs to include visibility progress goals for each Class I area, as well as emissions reductions strategies and other measures needed to meet these goals. The rule also provides an optional approach, the proposed Western Regional Air Partnership (WRAP) Annex rule, that may be followed by nine Western States and eligible Indian Tribes and contains a number of recommended strategies designed to improve visibility at the 16 Class I areas on the Colorado Plateau.

All information submitted to EPA for which a claim of confidentiality is made will be safeguarded according to the Agency policies set forth in 40 CFR part 2, subpart B—Confidentiality of Business Information. An agency may not conduct or sponsor, and a person is not required to respond to, a collection of information unless it displays a currently valid OMB control number. The OMB control numbers for EPA's regulations are listed in 40 CFR part 9 and 48 CFR Chapter 15. The EPA would like to solicit comments to:

(i) Evaluate whether the proposed collection of information is necessary for the proper performance of the functions of EPA, including whether the information will have practical utility;

(ii) evaluate the accuracy of EPA's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previous applicable instructions and requirements; train personnel to be able to respond to a collection of information; search data sources; complete and review the collection of information; and transmit or otherwise disclose the information.

The total burden is computed from the time and effort needed to complete the primary activities in the Regional Haze Rule. These activities include the committal Federal Implementation Plan as required in 40 CFR 51.308; the requirement to begin the analysis process for BART determinations, progress goals, and control strategies in 40 CFR 51.308; and the initial implementation plan submission required in 40 CFR 51.309.

These burden hour and costs estimates are incremental to the activities and accomplishments of the States, Tribes, and potentially regulated facilities associated with the grants to the Regional Planning Organizations.

The estimated incremental burden hours for States, Tribes, and potentially regulated entities are 78,000, 29,000, and 28,000 respectively for the 3-year ICR renewal period (October 1, 2002 through September 30, 2005). The estimated corresponding incremental cost is $3.1 million, $1.2 million, and $1.3 million respectively in present value terms using 2001 year dollars.

The estimated incremental burden for the Federal government is 10,500 hours with 4,000 of these hours for Federal Land Manager activities and the remainder for EPA activities. The estimated incremental cost in present value (2001 year dollars) is $363,000 with $121,000 of that for Federal Land Manager activities and the rest for EPA activities.

The burden estimates for the first ICR renewal period cover different task elements than those for the original ICR. These differences reflect the requirements of the 1999 Regional Haze Rule with respect to the scheduled events and activities in the implementation process.

Dated: July 12, 2002.
Henry C. Thomas,
Acting Director, Office of Air Quality Planning and Standards.

[FR Doc. 02-19326 Filed 7-30-02; 8:45 am]

BILLING CODE 6560-50-P